DEPARTMENT OF THE TREASURY

United States Mint

Pricing for Bronze Medals and Bronze Medal Presentation Cases

AGENCY: United States Mint, Department of the Treasury.

ACTION: Notice.

SUMMARY: The United States Mint is changing the prices of Bronze Medals and Bronze Medal Presentation Cases, effective January 1, 2021.

Large Bronze Medals | $160.00
Small Bronze Medals (1 5/16-inch and 1.5-inch) | 20.00
Large Medal Presentation Case | 35.00
Small Medal Presentation Case (for 1 5/16-inch and 1.5-inch) | 15.00

FOR FURTHER INFORMATION CONTACT: Ann Bailey, Sales and Marketing; United States Mint; 801 9th Street NW; Washington, DC 20220; or call 202-354-7500.

Authority: 31 U.S.C. 5111(a)(2), 31 U.S.C. 5136.

Eric Anderson,
Executive Secretary, United States Mint.

[FR Doc. 2020-20584 Filed 9-17-20; 8:45 am]

BILLING CODE P